DEPARTMENT OF ENERGY

Federal Energy Regulatory Commission

[Project No. 2192-009]

Consolidated Water Power Company; Notice of Availability of Environmental Assessment

March 10, 2004.

In accordance with the National Environmental Policy Act of 1969 and the Federal Energy Regulatory Commission's (Commission) regulations, 18 CFR part 380 (Order No. 486, 52 FR 47897), the Office of Energy Projects has prepared an Environmental Assessment (EA) for an application requesting Commission approval for the transfer of project land and water withdrawal for the Biron Hydroelectric Project. The project is located on the Wisconsin River in Wood and Portage Counties in central Wisconsin. The Biron Dam is located at river mile 219 in the Village of Biron.

The EA contains the staff's analysis of the potential environmental impacts of the project and concludes that the transfer of land and water withdrawal would not constitute a major federal action that would significantly affect the quality of the human environment.

A copy of the EA is attached to the March 5, 2004 Commission Order titled “Order Amending License for Non-Project Use of Project Lands and Waters,” which is available for review and reproduction at the Commission's Public Reference Room, located at 888 First Street, NE., Room 2A, Washington, DC 20426. The EA may also be viewed on the Commission's Web site at http://www.ferc.gov using the “eLibrary” link. Enter the docket number (prefaced by P-) in the docket number field to access the document. For assistance, contact FERC On Line Support at FERCOnlineSupport@ferc.gov or call toll free at (866) 208-3676, or for TTY contact (202) 502-8659.

Magalie R. Salas,
Secretary.

[FR Doc. E4-600 Filed 3-15-04; 8:45 am]

BILLING CODE 6717-01-P